DEPARTMENT OF TRANSPORTATION

Federal Railroad Administration

[Docket Number FRA-2025-0590]

Notice of Petition for Waiver of Compliance

AGENCY: Federal Railroad Administration (FRA), Department of Transportation (DOT).

ACTION: Notice.

SUMMARY: This document provides the public notice that Canadian National Railway Company (CN) petitioned FRA for relief from certain regulations concerning multiple air-source braking technology.

DATES: FRA must receive comments on the petition by January 8, 2026. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Steven Zuiderveen, Railroad Safety Specialist, FRA Motive Power & Equipment Division, telephone: 202-493-6337, email: steven.zuiderveen@dot.gov.

SUPPLEMENTARY INFORMATION: Under part 211 of title 49 Code of Federal Regulations (CFR), this document provides the public notice that by letter dated August 13, 2025 CN petitioned FRA for a waiver of compliance from certain provisions of the Federal railroad safety regulations contained at 49 CFR part 232 (Brake System Safety Standards for Freight and Other Non-Passenger Trains and Equipment; End-of-Train Devices). FRA assigned the petition Docket Number FRA-2025-0590.¹

¹ CN petitioned for a similar waiver in Docket Number FRA-2021-0091. https://www.regulations.gov/docket/FRA-2021-0091/document.

Specifically, CN seeks relief from § 232.205(c)(1)(ii)(B), Air Flow Method Test, which states that a “train equipped with at least one distributed power unit or air repeater unit providing a source of brake pipe control air from two or more locations must not exceed a combined flow of 90 cubic feet per minute (CFM).” CN explains that drastic temperature changes along a train's route may affect brake pipe airflow, and the challenge can be mitigated by adding additional air sources, which CN has been testing pursuant to a rule exemption by Transport Canada. In the petition, CN reports that “by adding air sources to the train, the overall health of the brake system improves notwithstanding that the combined airflow will exceed 90 CFM,” and therefore seeks to increase the maximum allowable combined brake pipe air flow from 90 CFM to 160 CFM across three air sources. The change would only apply to trains on the Sprague Subdivision (operated by CN) and on the Chicago to Winnipeg corridor (operated by WCL in the U.S. and CN in Canada), which totals about 18 trains on each route.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by January 8, 2026 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-22369 Filed 12-8-25; 8:45 am]

BILLING CODE 4910-06-P